DEPARTMENT OF TRANSPORTATION

Office of the Secretary

49 CFR Part 1

[Docket No. OST-2001-6189]

Organization and Delegation of Powers and Duties; Redelegation to the Assistant Secretary for Aviation and International Affairs

AGENCY: Office of the Secretary, DOT.

ACTION: Final rule.

SUMMARY: The Secretary of Transportation (Secretary) redelegates to the Assistant Secretary for Aviation and International Affairs the authority previously delegated by the President to the Secretary to carry out the duties and powers granted under section 101(a)(2) of the Air Transportation Safety and System Stabilization Act.

EFFECTIVE DATE: This rule is effective November 2, 2001.

FOR FURTHER INFORMATION CONTACT: Nilza F. Velazquez, Attorney, Office of the General Counsel (C-10), Department of Transportation, 400 Seventh Street, SW., Washington, DC 20590; 202-366-9164.

SUPPLEMENTARY INFORMATION:

Electronic Access

An electronic copy of this document may be downloaded by using a computer, modem, and suitable communications software from the Government Printing Office's Electronic Bulletin Board Service at (202) 512-1661. Internet users may reach the Office of the Federal Register homepage at: http://www.nara.gov/fedreg and the Government Printing Office's database at: http://www.access.gpo.gov/nara. You can also view and download this document by going to the Web page of the Department's Docket Management System (http://dms.dot.gov/). On that page, click on “search.” On the next page, type in the four digit docket number shown on the first page of this document (6189). Then click on “search.”

Background

The Air Transportation Safety and System Stabilization Act (Public Law 107-42, September 22, 2001) (the “Act”) was enacted in response in response to the terrorist attacks on New York and Washington. Section 101(a)(2) of the Act authorizes the President to compensate air carriers for the direct and incremental losses they incurred from terrorist attacks of September 11, 2001, and any resulting ground stop order. The President signed a Memorandum for the Secretary of Transportation, dated September 25, 2001 (66 FR 49507, September 27, 2001), delegating his authority under Section 101(a)(2) to the Secretary of Transportation. Under the authority of section 322 (b) of title 49, United States Code, the Secretary may delegate his authority unless otherwise prohibited. In the present case the delegation is appropriate.

Since this amendment relates to Departmental management, procedures, and practice, notice and comment on it are unnecessary under 5 U.S.C. 553(b)(3)(A), and it may be made effective in less than 30 days after publication in the Federal Register under 5 U.S.C. 553(d)(2) as a change in internal policy.

List of Subjects in 49 CFR Part 1

Authority delegations (Government agencies), Organization and functions (Government agencies).

In consideration of the foregoing, part 1 of title 49, Code of Federal Regulations, is amended as follows:

PART 1—[AMENDED]

1. The authority citation for part 1 continues to read as follows:

Authority: 49 U.S.C. 322; Public Law 101-522, 104 Stat. 2744; 28 U.S.C. 2672; 31 U.S.C. 3711(a)(2); 46 U.S.C. 2104(a).

2. In § 1.56a the introductory text is republished and paragraph (j) is added to read as follows:

§ 1.56a Delegations to the Assistant Secretary for Aviation and International Affairs.

The Assistant Secretary for Aviation and International Affairs is delegated the authority to:

* * * * *

(j) Carry out section 101(a)(2) of the Air Transportation Safety and System Stabilization Act (Public Law 107-42, 115 Stat. 230), as delegated to the Secretary of Transportation by the President pursuant to a Presidential Memorandum dated September 25, 2001.

Issued in Washington, DC, on October 24, 2001.
Norman Y. Mineta,
Secretary of Transportation.

[FR Doc. 01-27251 Filed 11-1-01; 8:45 am]

BILLING CODE 4910-62-P